DEPARTMENT OF HOMELAND SECURITY

[Docket No. DHS-2011-0029]

President's National Security Telecommunications Advisory Committee

AGENCY: National Protection and Programs Directorate, DHS.

ACTION: Committee Management; Notice of Partially Closed Federal Advisory Committee Meeting.

SUMMARY: The President's National Security Telecommunications Advisory Committee (NSTAC) will meet on Thursday, June 2, 2011, in Washington, DC. The meeting will be partially closed to the public.

DATES: The NSTAC will meet in open session on Thursday, June 2, 2011, from 2 p.m. to 5 p.m. and in closed session on Thursday, June 2, 2011, from 10 a.m. to 11:30 a.m.

ADDRESSES: The public portion of the meeting will be held at the U.S. Chamber of Commerce, 1615 H Street NW., Washington, DC. All visitors must pre-register to be admitted to the building. Please provide your name, telephone number and e-mail address by close of business on Friday, May 27, 2011, to Sue Daage at (703) 235-4964.

For information on facilities or services for individuals with disabilities or to request special assistance at the meeting, contact nstac@dhs.gov as soon as possible.

We are inviting public comment on the issues to be considered by the committee as listed in the SUPPLEMENTARY INFORMATION section below. Associated briefing materials that will be discussed at the meeting will be available at http://www.ncs.gov/nstac for review on May 18, 2011. Comments must be submitted in writing no later than May 27, 2011, and must be identified by DHS-2011-0029 and may be submitted by one of the following methods:

• Federal eRulemaking Portal: http://www.regulations.gov. Follow the instructions for submitting comments.

• E-mail: NSTAC@dhs.gov. Include the docket number in the subject line of the message.

• Fax: (703) 235-4981, Attn: Sue Daage.

• Mail: Deputy Manager, National Communications System, National Protection and Programs Directorate, U.S. Department of Homeland Security, 245 Murray Lane, Mail Stop 0615, Arlington, VA 20598-0615.

Instructions: All submissions received must include the words “Department of Homeland Security” and the docket number for this action. Comments received will be posted without alteration at http://www.regulations.gov, including any personal information provided.

Docket: For access to the docket to read background documents or comments received by the NSTAC, go to http://www.regulations.gov.

A public comment period will be held during the open portion of the meeting on Thursday, June 2, 2011 from 4:25 p.m. to 4:55 p.m., and speakers are requested to limit their comments to three minutes. Please note that the public comment period may end before the time indicated, following the last call for comments. Contact Sue Daage at 703-235-4964 to register as a speaker.

FOR FURTHER INFORMATION CONTACT: James Madon, NSTAC Designated Federal Officer, Department of Homeland Security, telephone (703) 235-4900.

SUPPLEMENTARY INFORMATION: Notice of this meeting is given under the Federal Advisory Committee Act, 5 U.S.C. App. (Pub. L. 92-463). The NSTAC advises the President on matters related to national security and emergency preparedness (NS/EP) telecommunications policy.

Agenda: The committee will meet in open session to receive briefings on the Federal Government's use of cloud computing; the Federal Emergency Management Agency's NS/EP communications requirements; the progress of the Government's implementation of NSTAC recommendations from the 2011 NSTAC Report to the President on Communications Resiliency and the 2009 NSTAC Report to the President on Commercial Satellite Mission Assurance; and the way forward for the committee's cloud computing effort.

The committee will meet in a closed session to review information on implementation of the National Public Safety Broadband Network as well as secure communications for mobile devices.

Basis for Closure: In accordance with 5 U.S.C. 552b(c), Government in the Sunshine Act, it has been determined that two meeting agenda items require closure as the disclosure of the information would not be in the public interest.

The first of these agenda items relates to issues and concerns surrounding the Government's planning for implementation of the National Public Safety Broadband Network, a nationwide, interoperable network for public safety. The NSTAC will discuss the migration by public safety users from legacy Land Mobile Radio to 4G technologies for their mobile telecommunications needs. The discussion will include a review of the advantages of 4G technologies, and details of various risks. In examining those risks, the NSTAC will address the vulnerabilities the technologies can have, and how the Government can best plan to mitigate those vulnerabilities. Disclosure of these vulnerabilities would provide a road map to criminals who wish to intrude into the system, and perhaps cause the government to deviate from its planned implementation of this system. Therefore, this portion of the meeting is required to be closed pursuant to 5 U.S.C. 552b(c)(9)(B).

Another agenda item will address secure communications for mobile devices. Government officials will share data with NSTAC members on initiatives, assessments, and future technical requirements for networks to be used by the government. The data to be shared includes specific vulnerabilities of various communications modalities and is not public information. Disclosure of this information to the public would provide criminals with the means to disrupt and hack into planned devices. Since this would undermine the ability of the United States to develop secure mobile networks, this portion of the meeting is required to be closed pursuant to 5 U.S.C. 552b(c)(9)(B).

Dated: May 10, 2011.
James Madon,
Designated Federal Officer for the NSTAC.

[FR Doc. 2011-12053 Filed 5-16-11; 8:45 am]

BILLING CODE P